DEPARTMENT OF HOMELAND SECURITY

Coast Guard

33 CFR Part 100

[Docket No. USCG-2022-0896]

Special Local Regulation: Marine Events Within the Captain of the Port Miami, Seminole Hard Rock Winterfest Holiday Boat Parade

AGENCY: Coast Guard, DHS.

ACTION: Notification of enforcement of regulation.

SUMMARY: The Coast Guard will enforce a special local regulation to provide for the safety and security of certain navigable waterways during the Seminole Hard Rock Winterfest Holiday Boat Parade. Our regulation for marine events within the Captain of the Port Miami identifies the regulated area for this event in Fort Lauderdale, FL. All non-participant persons and vessels are prohibited from entering, transiting, anchoring, or remaining within the regulated area during the enforcement period unless authorized by the Captain of the Port Miami or a designated representative. The operator of any vessel in the regulated area must comply with instructions from the Coast Guard or designated representative.

DATES: The regulation in 33 CFR 100.702 will be enforced for the location identified in Item 11 of Table 1 to § 100.702, on December 10, 2022 from 1:30 p.m. through 11:30 p.m.

FOR FURTHER INFORMATION CONTACT: If you have questions about this notice of enforcement, call or email MST1 Robert M. Olivas, Sector Miami Waterways Management Division, U.S. Coast Guard: Telephone: 305-535-4317, Email: Robert.M.Olivas@uscg.mil.

SUPPLEMENTARY INFORMATION: The Coast Guard will enforce a special local regulation for the Seminole Hard Rock Winterfest Holiday Boat Parade published in 33 CFR 100.702, Table 1 to § 100.702, Item 11 on December 11, 2021 from 1:30 p.m. through 11:30 p.m. This action is being taken to provide for the safety and security of certain navigable waters of the New River and Atlantic Intracoastal Waterway during this one-day event. Our regulation for marine events within the Seventh Coast Guard District, § 100.702, specifies the location of the special local regulation for the Seminole Hard Rock Winterfest Holiday Boat Parade, which includes a moving buffer zone of 50 yards around the parade as it travels along the New River and Intracoastal Waterway in Ft. Lauderdale, FL. Only event sponsor designated participants and official patrol vessels may enter the regulated area. Spectator vessels may contact the Coast Guard Patrol Commander to request permission to pass through the regulated area. If granted permission, vessels must pass directly through the regulated area at a safe speed without loitering.

In addition to this notice of enforcement in the Federal Register, the Coast Guard will inform the public through Local Notice to Mariners and marine information broadcasts at least 24 hours in advance of the enforcement of the special local regulation.

Dated: November 21, 2022.
C.R. Cederholm,
Captain, U.S. Coast Guard, Captain of the Port Miami.

[FR Doc. 2022-25887 Filed 11-28-22; 8:45 am]

BILLING CODE 9110-04-P